ELECTION ASSISTANCE COMMISSION

Sunshine Act Notice

AGENCY: United States Election Assistance Commission.

ACTION: Notice of public meeting for U.S. Election Assistance Commission Board of Advisors.

Date and Time: Tuesday, April 26, 2005, 6:30 p.m.-8:30 p.m., Wednesday, April 27, 2005, 8:30 a.m.-4:30 p.m. and Thursday, April 28, 2005, 8:30 a.m.-Noon.

Place: Boston Marriott Cambridge, 2 Cambridge Center, (Broadway & 3rd Street), Cambridge, MA 02142. (Massachusetts Bay Transit Station Stop: Kendall Square).

Purpose: The U.S. Election Assistance Commission (EAC) Board of Advisors, as required by the Help American Vote Act of 2002, will meet to present its views on issues in the administration of Federal elections, and formulate recommendations to the EAC.

The Board will receive an update on recent EAC activities. It will also discuss Voluntary Voting System Guidelines, EAC proposed Voluntary Guidance on the Implementation of statewide Voter Registration Lists, overseas voting issues, EAC's research agenda and other relevant matters pertaining to the administration of Federal elections. Further, the Board of Advisors will hear reports from its various subcommittees. Additionally, the Board will take administrative actions necessary for its efficient operation, including the election of its officers and adoption of bylaws.

Any member of the public may file a written statement with the Board before, during, or after the meeting. To the extent that time permits, the Board may allow public presentation or oral statements at the meeting.

Person To Contact For Information: Bryan Whitener, telephone: (202) 566-3100.

Gracia M. Hillman,
Chair, U.S. Election Assistance Commission.

[FR Doc. 05-7712 Filed 4-13-05; 12:44 pm]

BILLING CODE 6820-YN-M